DEPARTMENT OF COMMERCE

International Trade Administration

[A-570-967; C-570-968]

Aluminum Extrusions From the People's Republic of China: Preliminary Results of Changed Circumstances Reviews

AGENCY: Enforcement and Compliance, International Trade Administration, Department of Commerce.

SUMMARY: The Department of Commerce (Commerce) intends to revoke, in part, the antidumping duty (AD) and countervailing duty (CVD) orders on aluminum extrusions from the People's Republic of China (China) with respect certain rectangular wire. Interested parties are invited to comment on these preliminary results.

DATES: Applicable June 17, 2022.

FOR FURTHER INFORMATION CONTACT: Mark Flessner or Erin Kearney, AD/CVD Operations, Office VI, Enforcement and Compliance, International Trade Administration, U.S. Department of Commerce, 1401 Constitution Avenue NW, Washington, DC 20230; telephone: (202) 482-6312 or (202) 482-0167, respectively.

SUPPLEMENTARY INFORMATION:

Background

On May 26, 2011, Commerce published the AD and CVD orders on aluminum extrusions from China.¹

¹ See Aluminum Extrusions from the People's Republic of China: Antidumping Duty Order, 76 FR 30650 (May 26, 2011); and Aluminum Extrusions from the People's Republic of China: Countervailing Duty Order, 76 FR 30653 (May 26, 2011) (collectively, Orders).

On January 6, 2014, Commerce issued the final results of changed circumstances reviews (CCRs), in which it revoked the Orders, in part, based on a request from 3M Company (3M) with regard to a similar product, and added the following language to the scope of the Orders:

Also excluded from the scope of the order is certain rectangular wire produced from continuously cast rolled aluminum wire rod, which is subsequently extruded to dimension to form rectangular wire. The product is made from aluminum alloy grade 1070 or 1370, with no recycled metal content allowed. The dimensions of the wire are 5 mm (+/− 0.05 mm) in width and 1.0 mm (+/− 0.02 mm) in thickness. Imports of rectangular wire are provided for under HTSUS category 7605.19.000.²

² See Aluminum Extrusions from the People's Republic of China: Final Results of Changed Circumstances Reviews; Partial Revocation of Antidumping and Countervailing Duty Orders, 79 FR 634 (January 6, 2014) (2014 Revocation in Part).

On March 23, 2022, 3M requested that Commerce initiate CCRs to revoke, in part, the Orders with respect to certain rectangular wire, pursuant to section 751(b)(l) of the Tariff Act of 1930, as amended (the Act).³ 3M requested that Commerce exercise its discretion to extend the effective date back by one additional day, setting an effective date of the revocation of the Orders to entries entered on or after April 30, 2021. Additionally, 3M requested that Commerce expedite the reviews by combining the notice of initiation of the CCRs and the preliminary results of the reviews pursuant to 19 CFR 351.221(c)(3)(ii). 3M stated that it is a U.S. importer of certain rectangular wire and, as such, is an interested party pursuant to Section 771(9)(A) of the Act.

³ See 3M's Letter, “Aluminum Extrusions from the People's Republic of China: Changed Circumstances Review Request,” dated March 23, 2022 (CCR Request).

On April 13, 2022, the Aluminum Extrusions Fair Trade Committee (the petitioner) submitted comments in support of partially revoking the Orders with regard to the certain rectangular wire defined in the CCR Request.⁴ The petitioner submitted data demonstrating that it represents “substantially all” of the production of the domestic like product.⁵ The petitioner also supported 3M's request that the partial revocation of the Orders with respect to the certain rectangular wire defined in the CCR Request include unliquidated entries of the certain rectangular wire that was entered on or after April 30, 2021.⁶ Additionally, the petitioner supported 3M's request that Commerce expedite these reviews by combining the notice of initiation of the CCRs and the preliminary results of the reviews.⁷

⁴ See Petitioner's Letter, “Aluminum Extrusions from the People's Republic of China: Letter in Support of 3M Changed Circumstances Review Request,” dated April 13, 2022 (Petitioner's Support Letter).

⁵ Id. at 2-3.

⁶ Id. at 3.

⁷ Id.

On May 12, 2022, we published the initiation of the requested CCRs.⁸ We determined that it was not appropriate to combine the notice of initiation with notice of preliminary results because of the need to provide interested parties an opportunity to address the language of the proposed partial revocation of the Orders.⁹ Therefore, in the Initiation Notice, we invited interested parties to provide comments and/or factual information regarding these CCRs, including comments on the synthesis of the language of the of the 2014 Revocation in Part with the certain rectangular wire defined in the current CCR Request, and the setting of an effective date of the partial revocation of the Orders to entries entered on or after April 30, 2021.

⁸ See Aluminum Extrusions from the People's Republic of China: Initiation of Changed Circumstances Reviews, 87 FR 29110 (May 12, 2022) (Initiation Notice).

⁹ Id., 87 FR at 29111.

On May 19, 2022, 3M submitted comments ¹⁰ on the Initiation Notice in which 3M provided revised language to harmonize the language of the products that are the subject of these CCRs with the language that Commerce adopted in the 2014 Revocation in Part to yield a single exclusion on rectangular wire, as follows:

¹⁰ See 3M's Letter, “Aluminum Extrusions from the People's Republic of China: Comments of 3M Regarding Changed Circumstances Review on Certain Rectangular Wire,” dated May 19, 2022 (3M Comments).

Also excluded from the scope of the orders is certain rectangular wire, imported in bulk rolls or precut strips and produced from continuously cast rolled aluminum wire rod, which is subsequently extruded to dimension to form rectangular wire with or without rounded edges. The product is made from aluminum alloy grade 1070 or 1370, with no recycled metal content allowed. The dimensions of the wire are 2.95 mm to 6.05 mm in width, and 0.65 mm to 1.25 mm in thickness. Imports of rectangular wire are provided for under HTSUS categories 7605.19.000, 7604.29.1090, or 7616.99.5190.

3M continued to request that Commerce set an effective date of the partial revocation of the AD Order to entries entered on or after April 30, 2021 (which had already been supported by the petitioner ¹¹). On May 20, 2022, the petitioner submitted comments ¹² in which it agreed with the integration of the language from the 2014 Revocation in Part with the language proposed by 3M in the CCR Request to create a single, revised exclusion regarding certain rectangular wire using the language cited above in the 3M Comments. No other party commented on the Initiation Notice.

¹¹ See Petitioner's Support Letter at 3.

¹² See Petitioner's Letter, “Aluminum Extrusions from the People's Republic of China: Letter in Support of 3M Changed Circumstances Review,” dated May 20, 2022.

Scope of the Orders

The merchandise covered by these Orders is aluminum extrusions from China. For a complete description of the scope of the Orders (as they are presently composed), see the appendix to this notice.

Preliminary Results of Changed Circumstances Reviews and Intent To Revoke the Orders, in Part

Pursuant to section 751(d)(1) of the Act, and 19 CFR 351.222(g), Commerce may revoke an order, in whole or in part, based on a review under section 751(b) of the Act (i.e., a CCR). Section 782(h)(2) of the Act gives Commerce the authority to revoke an order if producers accounting for substantially all of the production of the domestic like product have expressed a lack of interest in the order. Section 351.222(g) of Commerce's regulations provides that Commerce will conduct a CCR under 19 CFR 351.216, and may revoke an order if it concludes that: (i) producers accounting for substantially all of the production of the domestic like product to which the order pertains have expressed a lack of interest in the relief provided by the order, in whole or in part; or (ii) other changed circumstances sufficient to warrant revocation exist. Thus, both the Act and Commerce's regulations require that “substantially all” domestic producers express a lack of interest in the order for Commerce to revoke the order, in whole or in part.¹³ Commerce has interpreted “substantially all” to mean producers accounting for at least 85 percent of the total U.S. production of the domestic like product covered by the order.¹⁴ The petitioner submitted data indicating that it represented “substantially all” of the total U.S. production of the domestic like product covered by the Orders.¹⁵ In the Initiation Notice, Commerce invited interested parties to provide comments and/or factual information regarding these CCRs. No party submitted comments on industry support. In light of the petitioner's stated lack of interest in maintaining the Orders with respect to certain rectangular wire as described above, and in the absence of any interested party comments concerning industry support, we preliminarily conclude that producers accounting for substantially all of the production of the domestic like product to which the Orders pertain lack interest in the relief provided by the Orders with respect to certain rectangular wire as described above. Thus, we preliminarily determine that changed circumstances warrant revocation of the Orders, in part, with respect to certain rectangular wire as described above.

¹³ See section 782(h) of the Act and 19 CFR 351.222(g).

¹⁴ See, e.g., Honey from Argentina; Antidumping and Countervailing Duty Changed Circumstances Reviews; Preliminary Intent to Revoke Antidumping and Countervailing Duty Orders, 77 FR 67790, 67791 (November 14, 2012), unchanged in Honey from Argentina; Final Results of Antidumping and Countervailing Duty Changed Circumstances Reviews; Revocation of Antidumping and Countervailing Duty Orders, 77 FR 77029 (December 31, 2012); and Crystalline Silicon Photovoltaic Cells, Whether or Not Assembled Into Modules, from the People's Republic of China: Preliminary Results of Changed Circumstances Reviews, and Intent To Revoke the Antidumping and Countervailing Duty Orders, in Part, 86 FR 33982 (June 28, 2021), unchanged in Crystalline Silicon Photovoltaic Cells, Whether or Not Assembled Into Modules, from the People's Republic of China: Final Results of Changed Circumstances Reviews, and Revocation of the Antidumping and Countervailing Duty Orders, in Part, 86 FR 71615 (December 17, 2021).

¹⁵ See Petitioner's Support Letter at 2-3 and Exhibit 1.

Accordingly, we are notifying the public of our intent to revoke the Orders, in part, with respect to certain rectangular wire as described above:

Also excluded from the scope of the orders is certain rectangular wire, imported in bulk rolls or precut strips and produced from continuously cast rolled aluminum wire rod, which is subsequently extruded to dimension to form rectangular wire with or without rounded edges. The product is made from aluminum alloy grade 1070 or 1370, with no recycled metal content allowed. The dimensions of the wire are 2.95 mm to 6.05 mm in width, and 0.65 mm to 1.25 mm in thickness. Imports of rectangular wire are provided for under HTSUS categories 7605.19.000, 7604.29.1090, or 7616.99.5190.

Lastly, we preliminarily determine that the effective date of the revocation of the AD Order will apply to entries entered on or after April 30, 2021. Setting the proposed effective date as the last day of the most-recently-completed POR aids materially in the orderly administration of the Orders in that it permits: (a) liquidation of entries for the 2020-2021 POR exactly concurrent with that POR; and (b) the refund of cash deposits for entries in the 2021-2022 POR exactly concurrent with this POR.

We shall consider comments from interested parties on these preliminary results before issuing the final results of these CCRs.¹⁶

¹⁶ See, e.g., Aluminum Extrusions from the People's Republic of China: Preliminary Results of Changed Circumstances Reviews, and Intent to Revoke Antidumping and Countervailing Duty Orders in Part, 78 FR 66895 (November 7, 2013), unchanged in 2014 Revocation in Part; and 19 CFR 351.222(g)(3)(v).

Public Comment

Interested parties are invited to comment on these preliminary results of CCRs in accordance with 19 CFR 351.309(c)(1)(ii). Comments may be submitted to Commerce no later than seven days after the date of publication of this notice. Rebuttal comments may be filed with Commerce no later than seven days after the comments are filed.¹⁷ Note that Commerce has temporarily modified certain of its requirements for serving documents containing business proprietary information until further notice.¹⁸ All submissions must be filed electronically using the Enforcement and Compliance's AD and CVD Centralized Electronic Service System (ACCESS). ACCESS is available to registered users at https://access.trade.gov. An electronically filed document must be received successfully in its entirety in ACCESS by 5:00 p.m. Eastern Time on the due date set forth in this notice.

¹⁷ Submissions of rebuttal factual information must comply with 19 CFR 351.301(b)(2). See Temporary Rule Modifying AD/CVD Service Requirements Due to COVID-19; Extension of Effective Period, 85 FR 41363 (July 10, 2020) (Temporary Rule).

¹⁸ See Temporary Rule.

Final Results of the Changed Circumstances Reviews

Commerce will issue the final results of these CCRs, which will include its analysis of any written comments, no later than 270 days after the date on which these reviews were initiated.¹⁹ If, in the final results of these reviews, Commerce continues to determine that changed circumstances warrant the revocation of the Orders, in part, we will instruct U.S. Customs and Border Protection (CBP) to liquidate without regard to antidumping or countervailing duties, and to refund any estimated antidumping and countervailing duties deposited on, all unliquidated entries of the merchandise covered by the revocation that are not covered by the final results of an administrative review or an automatic liquidation instruction to CBP. The effective date of the revocation of the AD Order will be applied to entries entered into the United States on or after April 30, 2021. The current requirement for cash deposits of estimated antidumping and countervailing duties on all entries of subject merchandise will continue unless they are modified pursuant to the final results of these CCRs.

¹⁹ See 19 CFR 351.216(e).

Notification to Interested Parties

These preliminary results of CCRs and this notice are published in accordance with sections 751(b) and 777(i) of the Act and 19 CFR 351.216, 19 CFR 351.221(c)(3), and 19 CFR 351.222.

Dated: June 13, 2022.
Lisa W. Wang,
Assistant Secretary for Enforcement and Compliance.

Appendix

Scope of the Orders

The merchandise covered by the Orders is aluminum extrusions which are shapes and forms, produced by an extrusion process, made from aluminum alloys having metallic elements corresponding to the alloy series designations published by the Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including brightdip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the Orders merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) length of 37 millimeters (“mm”) or 62 mm, (2) outer diameter of 11.0 mm or 12.7 mm, and (3) wall thickness not exceeding 0.13 mm.

Also excluded from the scope of these Orders are finished heat sinks. Finished heat sinks are fabricated heat sinks made from aluminum extrusions the design and production of which are organized around meeting certain specified thermal performance requirements and which have been fully, albeit not necessarily individually, tested to comply with such requirements.

Also excluded from the scope of the Orders is certain rectangular wire produced from continuously cast rolled aluminum wire rod, which is subsequently extruded to dimension to form rectangular wire. The product is made from aluminum alloy grade 1070 or 1370, with no recycled metal content allowed. The dimensions of the wire are 5 mm (+/− 0.05 mm) in width and 1.0 mm (+/− 0.02 mm) in thickness. Imports of rectangular wire are provided for under HTSUS category 7605.19.000.

Imports of the subject merchandise are provided for under the following categories of the Harmonized Tariff Schedule of the United States (HTSUS): 6603.90.81.00, 7604.21.00.00, 7604.21.00.10, 7604.21.00.90, 7604.29.10.00, 7604.29.10.10, 7604.29.10.90, 7604.29.30.10, 7604.29.30.50, 7604.29.30.60, 7604.29.30.90, 7604.29.50.30, 7604.29.50.60, 7604.29.50.50, 7604.29.50.90, 7606.12.30.91, 7606.12.30.96, 7608.20.00.30, 7608.20.00.90, 7609.00.00, 7610.10.00, 7610.90.00, 7615.10.20.15, 7615.10.20.25, 7615.10.30, 7615.10.30.15, 7615.10.30.25, 7615.10.50.20, 7615.10.50.40, 7615.10.71, 7615.10.71.25, 7615.10.71.30, 7615.10.71.55, 7615.10.71.80, 7615.10.91, 7615.10.91.00, 7615.19.10, 7615.19.30, 7615.19.50, 7615.19.70, 7615.19.90, 7615.20.00, 7615.20.00.00, 7616.10.90.90, 7616.99.10, 7616.99.50, 7616.99.51, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8424.90.90.80, 8473.30.20.00, 8473.30.51.00, 8479.89.94, 8479.89.98, 8479.90.85.00, 8479.90.94, 8481.90.90.60, 8481.90.90.85, 8486.90.00.00, 8487.90.00.80, 8503.00.95.20, 8508.70.00.00, 8513.90.20, 8515.90.20.00, 8516.90.50.00, 8516.90.80.50, 8517.70.00.00, 8529.90.73.00, 8529.90.97.60, 8536.90.80.85, 8538.10.00.00, 8541.90.00.00, 8543.90.88.80, 8543.90.88.85, 8708.10.30.50, 8708.29.50.60, 8708.29.51.60, 8708.80.65.90, 8708.99.68.90, 8803.30.00.60, 9013.90.50.00, 9013.90.90.00, 9031.90.90.95, 9031.90.91.95, 9401.90.50.81, 9401.99.90.81, 9403.10.00, 9403.20.00, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9403.99.10.40, 9403.99.90.10, 9403.99.90.15, 9403.99.90.20, 9403.99.90.41, 9405.99.40.20, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.30.80.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of these Orders is dispositive.

[FR Doc. 2022-13139 Filed 6-16-22; 8:45 am]

BILLING CODE 3510-DS-P